DEPARTMENT OF ENERGY

Federal Energy Regulatory Commission

Combined Notice of Filings

Take notice that the Commission has received the following Natural Gas Pipeline Rate and Refund Report filings:

Docket Number: PR20-6-001.

Applicants: Pelico Pipeline, LLC.

Description: Tariff filing per 284.123(b),(e)+(g): Pelico Pipeline, LLC Revised SOC Effective February 1, 2020 to be effective 2/1/2020.

Filed Date: 12/20/19.

Accession Number: 201912205021.

Comments Due: 5 p.m. ET 1/10/20.

284.123(g) Protests Due: 5 p.m. ET 1/10/20.

Docket Number: PR20-7-001.

Applicants: Regency Intrastate Gas LP.

Description: Tariff filing per 284.123(b),(e)+(g): Regency Intrastate Gas LP Revised SOC Effective February 1, 2020 to be effective 2/1/2020.

Filed Date: 12/20/19.

Accession Number: 201912205027.

Comments Due: 5 p.m. ET 1/10/20.

284.123(g) Protests Due: 5 p.m. ET 1/10/20.

Docket Numbers: RP19-63-001.

Applicants: East Tennessee Natural Gas, LLC.

Description: Report Filing: ETNG RP19-63 Refund Report_Final.

Filed Date: 12/13/19.

Accession Number: 20191213-5221.

Comments Due: 5 p.m. ET 12/27/19.

Docket Numbers: RP19-423-002.

Applicants: Tallgrass Interstate Gas Transmission, LLC.

Description: Compliance filing Rate Case Settlement RP19-423 et al. to be effective 6/1/2019.

Filed Date: 12/17/19.

Accession Number: 20191217-5134.

Comments Due: 5 p.m. ET 12/30/19.

Docket Numbers: RP18-369-003.

Applicants: Sea Robin Pipeline Company, LLC.

Description: Compliance filing First Annual Net Retrograde Filing on 12/19/19.

Filed Date: 12/19/19.

Accession Number: 20191219-5095.

Comments Due: 5 p.m. ET 12/27/19.

Docket Numbers: RP20-315-001.

Applicants: Equitrans, L.P.

Description: Tariff Amendment: Equitrans Clean-Up Filing—December 2019 Clarification to be effective 1/5/2020.

Filed Date: 12/19/19.

Accession Number: 20191219-5023.

Comments Due: 5 p.m. ET 12/27/19.

Docket Numbers: RP19-1340-002.

Applicants: Viking Gas Transmission Company.

Description: Compliance filing Motion to Place Suspended Revised Tariff Record into Effect to be effective 1/1/2020.

Filed Date: 12/20/19.

Accession Number: 20191220-5337.

Comments Due: 5 p.m. ET 1/2/20.

Docket Numbers: RP20-232-001.

Applicants: Dominion Energy Cove Point LNG, LP.

Description: Compliance filing DECP—RP20-232 Compliance Filing to be effective 12/15/2019.

Filed Date: 12/20/19.

Accession Number: 20191220-5162.

Comments Due: 5 p.m. ET 1/2/20.

Docket Numbers: RP20-309-001.

Applicants: Northwest Pipeline LLC.

Description: Tariff Amendment: Amended Miscellaneous and Housekeeping Filing—Fall 2019 to be effective 1/3/2020.

Filed Date: 12/20/19.

Accession Number: 20191220-5306.

Comments Due: 5 p.m. ET 1/2/20.

Docket Numbers: RP20-351-000.

Applicants: Texas Eastern Transmission, LP.

Description: § 4(d) Rate Filing: Negotiated Rate—Chevron 911109 release eff 1-1-2020 to be effective 1/1/2020.

Filed Date: 12/20/19.

Accession Number: 20191220-5001.

Comments Due: 5 p.m. ET 1/2/20.

Docket Numbers: RP20-352-000.

Applicants: WBI Energy Transmission, Inc.

Description: § 4(d) Rate Filing: 2019 Negotiated & Non-Conforming SA—Demick's Lake II to be effective 2/1/2020.

Filed Date: 12/20/19.

Accession Number: 20191220-5002.

Comments Due: 5 p.m. ET 1/2/20.

Docket Numbers: RP20-353-000.

Applicants: Iroquois Gas Transmission System, L.P.

Description: § 4(d) Rate Filing: 122019 Negotiated Rates—Castleton Commodities Merchant Trading L.P. H-4010-89 to be effective 12/19/2019.

Filed Date: 12/20/19.

Accession Number: 20191220-5004.

Comments Due: 5 p.m. ET 1/2/20.

Docket Numbers: RP20-354-000.

Applicants: Texas Eastern Transmission, LP.

Description: § 4(d) Rate Filing: Negotiated Rate—Colonial 911723 eff 12-21-19 to be effective 12/21/2019.

Filed Date: 12/20/19.

Accession Number: 20191220-5014.

Comments Due: 5 p.m. ET 1/2/20.

Docket Numbers: RP20-355-000.

Applicants: Kern River Gas Transmission Company.

Description: § 4(d) Rate Filing: 2019 Pro Forma Agreements to be effective 2/1/2020.

Filed Date: 12/20/19.

Accession Number: 20191220-5016.

Comments Due: 5 p.m. ET 1/2/20.

Docket Numbers: RP20-356-000.

Applicants: Adelphia Gateway, LLC.

Description: § 4(d) Rate Filing: Adelphia Tariff Compliance filing (12-20-19) to be effective 1/3/2020.

Filed Date: 12/20/19.

Accession Number: 20191220-5331.

Comments Due: 5 p.m. ET 12/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2019.
Nathaniel J. Davis, Sr.,
Deputy Secretary.

[FR Doc. 2019-28257 Filed 12-30-19; 8:45 am]

BILLING CODE 6717-01-P